DEPARTMENT OF DEFENSE

Department of the Navy

[USN-2007-0027]

Privacy Act of 1974; System of Records

AGENCY: Department of the Navy, Department of Defense.

ACTION: Notice of a new system of records.

SUMMARY: The Department of the Navy proposes to add a systems of records to its inventory of record systems subject to the Privacy Act of 1974 (5 U.S.C. 552a), as amended.

DATES: The proposed action will be effective on May 18, 2007 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's notices for systems of records subject to the Privacy Act of 1974 (5 U.S.C. 552a), as amended, have been published in the Federal Register and are available from the address above.

The proposed systems reports, as required by 5 U.S.C. 552a(r) of the Privacy Act, were submitted on April 6, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated February 8, 1996, (February 20, 1996, 61 FR 6427).

Dated: April 11, 2007.
C.R. Choate,
Alternate OSD Federal Register Liaison Officer, Department of Defense.

N01533-1

System name:

Navy Junior ROTC (NJROTC) Applicant/Instructor System.

System location:

Naval Service Training Command, Citizenship Development, 250 Dallas Street, Suite A, Pensacola, FL 32508-5268.

Categories of individuals covered by the system:

Certified NJROTC instructor applicants and instructors.

Categories of records in the system:

Individual's name, Social Security Number (SSN), NJROTC Instructor Certification Application, Essay Questions, school name, Personal Appearance/Body Fat Measurements or most recent Physical Readiness Test (PRT), Photograph Submission Sheet, Interviewers Appraisal, Applicant Checklist, Certification Letter, NJROTC Instructor Evaluations, NJROTC Instructor Observation Report, Instructor Evaluation/Probation Letters, School Evaluation/Probation Letters, Resignation Letters, and correspondence.

Authority for maintenance of the system:

10 U.S.C. 2031, Junior Reserve Officers' Training Corps;

10 U.S.C. 5013, Secretary of the Navy; and E.O. 9397 (SSN).

Purpose(s):

To provide a record of the qualifications, experience, effectiveness, and related information for those serving, and those seeking certification, as NJROTC instructors.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records notices also apply to this system.

Policies and practices for storing, retrieving, accessing, retaining, and disposing of records in the system:

Storage:

Paper records in file folder and electronic storage media.

Retrievability:

Name, Social Security Number (SSN), and/or name of school.

Safeguards:

Records are stored in locked cabinets. Access to building controlled through utilization of swipe card. All guests escorted. Access to electronic documentation is limited to authorized personnel who have a requisite access card and is password protected.

Retention and disposal:

Initial applications for Instructors are maintained until considered by certification board. Those not certified are destroyed after 90 days.

Instructor records, including records of their certification are destroyed 6 years after instructor ceases teaching NJROTC.

Individual Certification records not teaching NJROTC are destroyed 6 years from applicant's active duty retirement date.

Decertified/Revoked instructor records are destroyed 1 year after decertification/revocation date.

System manager(s) and address:

Commanding Officer, Naval Service Training Command, Citizenship Development, 250 Dallas Street, Suite A, Pensacola, FL 32508-5268.

Notification procedure:

Individuals seeking to determine whether information about themselves is contained in this system of records should address written inquiries to the Commanding Officer, Naval Service Training Command, Citizenship Development (NJROTC), 250 Dallas Street, Suite A, Pensacola, FL 32508-5268.

Requests should contain individual's full name, Social Security Number (SSN), duty position, if currently an NJROTC instructor, and name of school. If no longer an NJROTC instructor, they should provide dates of service as an instructor.

The request must be signed, include current address, and telephone number.

Records access procedures:

Individuals seeking access to information about themselves contained in this system of records should address written inquiries to the Commanding Officer, Naval Service Training Command, Citizenship Development (NJROTC), 250 Dallas Street, Suite A, Pensacola, FL 32508-5268.

Requests should contain individual's full name, Social Security Number (SSN), duty position, if currently an NJROTC instructor, and name of school. If no longer an NJROTC instructor, they should provide dates of service as an instructor.

The request must be signed, include current address, and telephone number.

Contesting record procedures:

The Navy's rules for accessing records and contesting contents and appealing initial agency determinations are published in Secretary of the Navy Instruction 5211.5; 32 CFR part 701; or may be obtained from the system manager.

Record source categories:

Individual, NJROTC administrative personnel, and school district personnel.

Exemptions claimed for the system:

None.

[FR Doc. E7-7360 Filed 4-17-07; 8:45 am]

BILLING CODE 5001-06-P